DEPARTMENT OF ENERGY

Federal Energy Regulatory Commission

Combined Notice of Filings #1

Take notice that the Commission received the following electric corporate filings:

Docket Numbers: EC24-95-000.

Applicants: Big Rock ESS Assets, LLC.

Description: Supplement to 06/25/2024 Application for Authorization Under Section 203 of the Federal Power Act of Big Rock ESS Assets, LLC.

Filed Date:10/1/24.

Accession Number: 20241001-5352.

Comment Date: 5 p.m. ET 10/11/24.

Take notice that the Commission received the following exempt wholesale generator filings:

Docket Numbers: EG25-1-000.

Applicants: AES Pike County Energy Storage, LLC.

Description: AES Pike County Energy Storage, LLC submits Notice of Self-Certification of Exempt Wholesale Generator Status.

Filed Date: 10/3/24.

Accession Number: 20241003-5076.

Comment Date: 5 p.m. ET 10/24/24.

Take notice that the Commission received the following electric rate filings:

Docket Numbers: ER17-1320-006; ER17-2281-005; ER17-2282-005; ER19-135-005; ER20-64-005; ER20-65-005; ER21-653-005; ER21-654-005; ER21-856-006; ER21-857-006; ER21-1396-004; ER21-1397-004; ER21-2689-004; ER21-2690-004; ER21-2764-004; ER21-2769-004; ER22-19-004; ER22-20-004; ER22-215-004; ER22-216-004; ER22-2399-003; ER22-2400-003; ER22-2401-003; ER22-2403-003; ER22-2404-003; ER22-2405-003; ER22-2406-003; ER22-2407-003; ER22-2410-003; ER22-2411-003; ER22-2412-003; ER22-2413-003; ER22-2816-003; ER22-2817-003; ER23-726-003; ER23-727-003; ER23-1413-003; ER23-1414-003; ER23-1415-003; ER23-1416-003; ER23-2130-003; ER23-2133-003; ER23-2933-003; ER23-2934-003; ER24-672-004; ER24-673-004.

Applicants: PGR 2022 Lessee 5, LLC, Moonshot Solar, LLC, PGR 2022 Lessee 4, LLC, Cane Creek Solar, LLC, PGR 2022 Lessee 9, LLC, Glover Creek Solar, LLC, PGR 2022 Lessee 1, LLC, Virginia Line Solar, LLC, PGR 2021 Lessee 18, LLC, Landrace Holdings, LLC, PGR 2022 Lessee 2, LLC, Fresh Air Energy XXIII, LLC, Eastover Solar LLC, PGR 2021 Lessee 17, LLC, PGR 2021 Lessee 9, LLC, Bulldog Solar, LLC, PGR 2021 Lessee 13, LLC, Sonny Solar, LLC, PGR 2021 Lessee 19, LLC, Allora Solar, LLC, PGR 2021 Lessee 15, LLC, Gunsight Solar, LLC, PGR 2021 Lessee 12, LLC, Cabin Creek Solar, LLC, PGR 2021 Lessee 11, LLC, Phobos Solar, LLC, PGR 2021 Lessee 2, LLC, Beulah Solar, LLC, PGR 2021 Lessee 1, LLC, Stanly Solar, LLC, PGR 2021 Lessee 7, LLC, Highest Power Solar, LLC, PGR 2021 Lessee 5, LLC, Lick Creek Solar, LLC, PGR 2020 Lessee 8, LLC, Sugar Solar, LLC, Trent River Solar, LLC, PGR Lessee P, LLC, PGR Lessee O, LLC, Centerfield Cooper Solar, LLC, TWE Bowman Solar Project, LLC, PGR Lessee L, LLC, Peony Solar LLC, Champion Solar, LLC, Swamp Fox Solar, LLC, Odyssey Solar, LLC.

Description: Notice of Non-Material Change in Status of Odyssey Solar, LLC et al.

Filed Date: 9/30/24.

Accession Number: 20240930-5381.

Comment Date: 5 p.m. ET 10/21/24.

Docket Numbers: ER20-2878-019.

Applicants: Pacific Gas and Electric Company.

Description: Compliance filing: WAPA Offer of Settlement Compliance Filing (TO SA 59) to be effective 1/1/2025.

Filed Date: 10/3/24.

Accession Number: 20241003-5072.

Comment Date: 5 p.m. ET 10/24/24.

Docket Numbers: ER20-2878-020.

Applicants: Pacific Gas and Electric Company.

Description: Compliance filing: WAPA Offer of Settlement Compliance Filing (WDT SA 17) to be effective 1/1/2025.

Filed Date: 10/3/24.

Accession Number: 20241003-5075.

Comment Date: 5 p.m. ET 10/24/24.

Docket Numbers: ER22-282-003.

Applicants: El Paso Electric Company.

Description: Compliance filing: Compliance Filing to Set Effective Date of Commission-Approved Settlement Tariff to be effective 9/2/2024.

Filed Date: 10/3/24.

Accession Number: 20241003-5044.

Comment Date: 5 p.m. ET 10/24/24.

Docket Numbers: ER24-2805-001.

Applicants: AEP Texas Inc.

Description: Tariff Amendment: AEPTX-HyFuels Green Lake Wind Generation Interconnection Agr—Amend Pending to be effective 7/24/2024.

Filed Date: 10/3/24.

Accession Number: 20241003-5059.

Comment Date: 5 p.m. ET 10/24/24.

Docket Numbers: ER24-2933-000.

Applicants: CPV Maple Hill Solar, LLC.

Description: CPV Maple Hills Solar submits a Waiver Request of the 90-Day Prior Notice Requirement with a request for Expedited Processing.

Filed Date: 8/29/24.

Accession Number: 20240829-5232.

Comment Date: 5 p.m. ET 10/8/24.

Docket Numbers: ER25-17-000.

Applicants: American Transmission Systems, Incorporated, PJM Interconnection, L.L.C.

Docket Numbers: ER25-17-000.

Applicants: American Transmission Systems, Incorporated, PJM Interconnection, L.L.C.

Description: § 205(d) Rate Filing: American Transmission Systems, Incorporated submits tariff filing per 35.13(a)(2)(iii: ATSI submits Construction Agmnts, SA No. 7179, 7181, 7183 to be effective 12/2/2024.

Filed Date: 10/2/24.

Accession Number: 20241002-5253.

Comment Date: 5 p.m. ET 10/23/24.

Docket Numbers: ER25-18-000.

Applicants: AEP Indiana Michigan Transmission Company, Inc.

Description: § 205(d) Rate Filing: AIMTC-Pioneer (Greentown) O&M Agreement to be effective 12/31/9998.

Filed Date: 10/3/24.

Accession Number: 20241003-5043.

Comment Date: 5 p.m. ET 10/24/24.

Docket Numbers: ER25-19-000.

Applicants: FirstEnergy Service Company, PJM Interconnection, L.L.C.

Description: § 205(d) Rate Filing: FirstEnergy Service Company submits tariff filing per 35.13(a)(2)(iii: Potomac Edison's Request for Order Authorizing Abandoned Plant Incentive to be effective 12/3/2024.

Filed Date: 10/3/24.

Accession Number: 20241003-5047.

Comment Date: 5 p.m. ET 10/24/24.

Docket Numbers: ER25-20-000.

Applicants: PJM Interconnection, L.L.C.

Description: § 205(d) Rate Filing: Amendment to ISA, SA No. 6770; Queue No. AE2-071/AF1-203 (amend) to be effective 12/3/2024.

Filed Date: 10/3/24.

Accession Number: 20241003-5051.

Comment Date: 5 p.m. ET 10/24/24.

Docket Numbers: ER25-21-000.

Applicants: Tri-State Generation and Transmission Association, Inc.

Description: § 205(d) Rate Filing: Initial Filing of Service Agreement FERC No. 923 to be effective 9/5/2024.

Filed Date: 10/3/24.

Accession Number: 20241003-5063.

Comment Date: 5 p.m. ET 10/24/24.

Docket Numbers: ER25-22-000.

Applicants: OTCF, LLC.

Description: Tariff Amendment: Notice of Cancellation of Market-Based Rates to be effective 10/4/2024.

Filed Date: 10/3/24.

Accession Number: 20241003-5079.

Comment Date: 5 p.m. ET 10/24/24.

Docket Numbers: ER25-23-000.

Applicants: Duke Energy Progress, LLC.

Description: § 205(d) Rate Filing: DEP-Firefly Energy, LLC ASOA SA 446 to be effective 12/3/2024.

Filed Date: 10/3/24.

Accession Number: 20241003-5087.

Comment Date: 5 p.m. ET 10/24/24.

Docket Numbers: ER25-24-000.

Applicants: PJM Interconnection, L.L.C.

Description: § 205(d) Rate Filing: Original NSA Service Agreement No. 7309, W2-018 to be effective 12/3/2024.

Filed Date: 10/3/24.

Accession Number: 20241003-5093.

Comment Date: 5 p.m. ET 10/24/24.

Docket Numbers: ER25-25-000.

Applicants: Hunterstown Generation, LLC.

Description: Compliance filing: Notice of Succession and Request for Waiver to be effective 9/16/2024.

Filed Date: 10/3/24.

Accession Number: 20241003-5103.

Comment Date: 5 p.m. ET 10/24/24.

Docket Numbers: ER25-26-000.

Applicants: PJM Interconnection, L.L.C.

Description: § 205(d) Rate Filing: Amendment to WMPA SA No. 7026; AF2-243 to be effective 12/3/2024.

Filed Date: 10/3/24.

Accession Number: 20241003-5105.

Comment Date: 5 p.m. ET 10/24/24.

Docket Numbers: ER25-27-000.

Applicants: Hunterstown Generation, LLC.

Description: Compliance filing: Notice of Succession and Request for Waiver to be effective 9/16/2024.

Filed Date: 10/3/24.

Accession Number: 20241003-5109.

Comment Date: 5 p.m. ET 10/24/24.

Docket Numbers: ER25-28-000.

Applicants: Potter Road Powerhouse LLC.

Description: Tariff Amendment: Notice of Termination of Potter Road Powerhouse LLC (MBR Tariff) to be effective 12/3/2024.

Filed Date: 10/3/24.

Accession Number: 20241003-5112.

Comment Date: 5 p.m. ET 10/24/24.

Docket Numbers: ER25-29-000.

Applicants: Federal Way Powerhouse LLC.

Description: Tariff Amendment: Notice of Termination of Federal Way Powerhouse LLC (MBR Tariff) to be effective 12/3/2024.

Filed Date: 10/3/24.

Accession Number: 20241003-5115.

Comment Date: 5 p.m. ET 10/24/24.

Docket Numbers: ER25-30-000.

Applicants: Puget Sound Energy, Inc.

Description: § 205(d) Rate Filing: Bellingham Cold Storage—NITSA, NOA, IA: Roeder package to be effective 10/1/2024.

Filed Date:10/3/24.

Accession Number: 20241003-5131.

Comment Date: 5 p.m. ET 10/24/24.

Docket Numbers: ER25-31-000.

Applicants: PJM Interconnection, L.L.C.

Description: § 205(d) Rate Filing: Amendment to ISA, SA No. 6738; Queue No. AC2-090 to be effective 12/3/2024.

Filed Date: 10/3/24.

Accession Number: 20241003-5142.

Comment Date: 5 p.m. ET 10/24/24.

Docket Numbers: ER25-32-000.

Applicants: Puget Sound Energy, Inc.

Description: § 205(d) Rate Filing: Bellingham Cold Storage—Orchard—NITSA, NOA, IA to be effective 10/1/2024.

Filed Date: 10/3/24.

Accession Number: 20241003-5150.

Comment Date: 5 p.m. ET 10/24/24.

Docket Numbers: ER25-33-000.

Applicants: PJM Interconnection, L.L.C.

Description: § 205(d) Rate Filing: Amendment to ISA, Service Agreement No. 6956; AE2-181 to be effective 12/3/2024.

Filed Date: 10/3/24.

Accession Number: 20241003-5157.

Comment Date: 5 p.m. ET 10/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 3, 2024.
Debbie-Anne A. Reese,
Acting Secretary.

[FR Doc. 2024-23390 Filed 10-8-24; 8:45 am]

BILLING CODE 6717-01-P